ENVIRONMENTAL PROTECTION AGENCY

[FRL-8305-6]

Science Advisory Board Staff Office Notification of an Upcoming Teleconference of the Ethylene Oxide (EtO) Review Panel

AGENCY: Environmental Protection Agency (EPA).

ACTION: Notice.

SUMMARY: The EPA Science Advisory Board (SAB) Staff Office announces a public teleconference of the SAB Ethylene Oxide (EtO) Review Panel.

DATES: A public teleconference of the SAB Ethylene Oxide (EtO) Review Panel will be held from 1 p.m. to 4 p.m. Eastern Time on May 29, 2007.

ADDRESSES: The public teleconference will take place via telephone only.

FOR FURTHER INFORMATION CONTACT: Members of the public who wish to obtain the call-in number and access code to participate in the teleconference may contact Dr. Sue Shallal, EPA Science Advisory Board Staff (1400F), U.S. Environmental Protection Agency, 1200 Pennsylvania Ave., NW., Washington, DC 20460; telephone/voice mail: (202) 343-9977 or via e-mail at shallal.suhair@epa.gov. Technical Contact: The technical contact in EPA's Office of Research and Development (ORD) is Dr. Henry Kahn. He can be reached at (202) 564-3269, or kahn.henry@epa.gov.

SUPPLEMENTARY INFORMATION:

Background: EPA's Office of Research and Development (ORD) had requested that the SAB peer review the Agency's draft assessment, “Evaluation of the Carcinogenicity of Ethylene Oxide”. Background on this SAB review and the process for formation of this review panel was provided in a Federal Register Notice published on November 14, 2006 (71 FR 219; 66328-66329). Additional information can also be found at the following URL: http://www.epa.gov/sab/panels/ethylene_oxide_rev_panel.htm. The purpose of this upcoming teleconference is for the SAB Review Panel to discuss its draft review report. A meeting agenda and the draft SAB review report will be posted at the above noted URL prior to the meeting.

Procedures for Providing Public Input: Interested members of the public may submit relevant written or oral information for the EtO Review Panel to consider during the advisory process. Oral Statements: In general, individuals or groups requesting an oral presentation at a public teleconference will be limited to three minutes per speaker, with no more than a total of 30 minutes for all speakers. Interested parties should contact Dr. Shallal, DFO, in writing (preferably via e-mail), by May 21, 2007, at the contact information noted above, to be placed on the list of public speakers for this meeting.

Written Statements: Written statements should be received in the SAB Staff Office by May 21, 2007, so that the information may be made available to the Panel for their consideration prior to this teleconference. Written statements should be supplied to the DFO in the following formats: one hard copy with original signature (optional), and one electronic copy via e-mail (acceptable file format: Adobe Acrobat PDF, MS Word, WordPerfect, MS PowerPoint, or Rich Text files in IBM-PC/Windows 98/2000/XP format).

Accessibility: For information on access or services for individuals with disabilities, please contact Dr. Shallal at the phone number or e-mail address noted above, preferably at least ten days prior to the meeting, to give EPA as much time as possible to process your request.

Dated: April 19, 2007.
Anthony F. Maciorowski,
Deputy Director, EPA Science Advisory Board Staff Office.

[FR Doc. E7-7891 Filed 4-24-07; 8:45 am]

BILLING CODE 6560-50-P